FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201407.

Agreement Name: HMM Yang Ming PSX Space Charter Agreement.

Parties: HMM Co. Ltd.; Yang Ming Marine Transport Corp.; Yang Ming (UK) Ltd.; and Yang Ming (Singapore) Pte. Ltd.

Filing Party: Joshua Stein; Cozen O'Connor.

Synopsis: The Agreement authorizes HMM to charter space to Yang Ming Lines on HMM's service in the trade between the Republic of Korea and China, on the one hand, and the U.S. Pacific Coast, on the other.

Proposed Effective Date: 7/24/2023.

Location: https://www2.fmc.gov/FMC.Agreements.Web/Public/AgreementHistory/84503.

Dated: July 28, 2023.
JoAnne O'Bryant,
Program Analyst.

[FR Doc. 2023-16435 Filed 8-1-23; 8:45 am]

BILLING CODE 6730-02-P